DEPARTMENT OF ENERGY

Federal Energy Regulatory Commission

[Docket No. ER06-432-000]

Southwest Power Pool, Inc.; Notice of Technical Conference

March 22, 2006.

Take notice that a technical conference will be convened on Monday, April 10, 2006, from 1 p.m. to 4 p.m. (EST), in Conference Room 3M-3 at the offices of the Federal Energy Regulatory Commission, 888 First Street, NE., Washington, DC 20426.

The technical conference will deal with two issues related to Southwest Power Pool, Inc.'s proposed credit policy, as discussed in the Commission's February 28, 2006 Order.¹ Specifically the Commission directed Commission staff to examine SPP's proposed total debt to total capitalization and debt service coverage scores and SPP's proposed $50,000 unsecured credit floor for not-for-profit entities.² The Commission found that SPP's proposal may not be just and reasonable, and may be unjust, unreasonable, unduly discriminatory, or otherwise unlawful. Accordingly, the Commission accepted SPP's Credit Policy for filing and suspended it to become effective on March 1, 2006, subject to refund and the outcome of a technical conference. A report on the technical conference is due to the Commission no later than May 30, 2006.

¹ Southwest Power Pool, Inc., 114 FERC ¶ 61,222 (2006).

² Id. at P 32 and 62.

Attached to this notice are questions to the parties in this proceeding. Responses to these questions should be filed no later than ten days before the date of the conference. The submitted information will be discussed at the technical conference and used to supplement the record.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Jignasa Gadani at (202) 502-8608 or e-mail jignasa.gadani@ferc.gov.

Magalie R. Salas,
Secretary.

[FR Doc. E6-4451 Filed 3-27-06; 8:45 am]

BILLING CODE 6717-01-P